DEPARTMENT OF VETERANS AFFAIRS

VA National Academic Affiliations Council, Notice of Meeting

The Department of Veterans Affairs (VA) gives notice under the Federal Advisory Committee Act that the VA National Academic Affiliations Council (NAAC) will meet via conference call on July 11, 2018, from 10:00 a.m. to 12:00 p.m. EST. The meeting is open to the public.

The purpose of the Council is to advise the Secretary on matters affecting partnerships between VA and its academic affiliates.

On July 11, 2018, the Council will explore the current modernization effort within the Veterans Health Administration (VHA); receive a briefing on the VHA electronic health record modernization program; discuss provisions of the recently enacted Public Law 115-182 that impacts VA's clinical education mission; and receive updates on the waiver process for VA employees engaging in teaching activities with for-profit educational institutions; the activities of the Council's Subcommittee on Diversity and Inclusion; the June 13, 2018 Roundtable of Graduate Medical Education hosted by the House Committee on Veterans' Affairs; and the recent efforts of the VA Strategic Academic Advisory Council. The Council will receive public comments from 11:50 p.m. to 12:00 p.m. EST.

Interested persons may attend and/or present oral statements to the Council. The dial in number to attend the conference call is: 1-800-767-1750. At the prompt, enter access code 66983 then press #. Individuals seeking to present oral statements are invited to submit a 1-2 page summary of their comments at the time of the meeting for inclusion in the official meeting record. Oral presentations will be limited to five minutes or less, depending on the number of participants. Interested parties may also provide written comments for review by the Council prior to the meeting or at any time, by email to Steve.Trynosky@va.gov, or by mail to Stephen K. Trynosky J.D., M.P.H., M.M.A.S., Designated Federal Officer, Office of Academic Affiliations (10A2D), 810 Vermont Avenue NW, Washington, DC 20420. Any member of the public wishing to participate or seeking additional information should contact Mr. Trynosky via email or by phone at (202) 461-6723.

Dated: June 26, 2018.
Jelessa M. Burney,
Federal Advisory Committee Management Officer.

[FR Doc. 2018-14002 Filed 6-28-18; 8:45 am]

BILLING CODE P